DEPARTMENT OF COMMERCE

International Trade Administration

[A-570-501]

Natural Bristle Paint Brushes and Brush Heads From the People's Republic of China: Final Results of Antidumping Duty Administrative Review

AGENCY: Import Administration, International Trade Administration, U.S. Department of Commerce.

ACTION: Notice of final results of administrative review: natural bristle paint brushes and brush heads from the People's Republic of China.

SUMMARY: On March 15, 2000, the Department of Commerce (the Department) published the preliminary results of its administrative review of the antidumping duty order on natural bristle paint brushes and brush heads from the People's Republic of China (PRC). This administrative review covers the period February 1, 1998 through January 31, 1999.

Based on our analysis of the comments received, we have made changes to the margin calculations. Therefore, the final results differ from the preliminary results. The final weighted-average dumping margins for the reviewed firms are listed below in the section entitled “Final Results of Review.”

EFFECTIVE DATE: July 25, 2000.

FOR FURTHER INFORMATION CONTACT: Sarah Ellerman or Maureen Flannery, Antidumping/Countervailing Duty Enforcement, Import Administration, International Trade Administration, U.S. Department of Commerce, 14th Street and Constitution Avenue, NW., Washington, DC 20230; telephone (202) 482-4106 or (202) 482-3020, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (1998).

Background

On March 15, 2000, the Department published the preliminary results of review of the antidumping duty order on natural bristle paint brushes and brush heads from the PRC (65 FR 13944). We received surrogate value comments from respondent Hebei Founder Import & Export Company (Founder) and the Paint Applicator Division of the American Brush Manufacturers Association (petitioner) on April 3 and 4, 2000 respectively. On April 14, 2000 we received rebuttal comments regarding surrogate values from respondent Hunan Provincial Native Produce & Animal By-Products Import and Export Corp. (Hunan). On April 24, 2000, we received comments regarding our preliminary calculations on behalf of the petitioner and Founder. On May 2, 2000, we received rebuttal comments from petitioner and respondents Hunan and Founder. The Department has now completed this review in accordance with section 751 of the Act.

Scope of Review

Imports covered by this review are shipments of natural bristle paint brushes and brush heads from the PRC. Excluded from the review are paint brushes and brush heads with a blend of 40% natural bristles and 60% synthetic filaments. The merchandise under review is currently classifiable under item 9603.40.40.40 of the Harmonized Tariff Schedule of the United States (HTSUS). Although the HTSUS subheading is provided for convenience and customs purposes, the Department's written description of the merchandise is dispositive.

Analysis of Comments Received

All issues raised in the case and rebuttal briefs by parties to this administrative review are addressed in the “Issues and Decision Memorandum” (Decision Memo) from Joseph A. Spetrini, Deputy Assistant Secretary for Import Administration, to Troy H. Cribb, Acting Assistant Secretary for Import Administration, dated July 14, 2000, which is hereby adopted by this notice. A list of the issues which parties have raised and to which we have responded, all of which are in the Decision Memo, is attached to this notice as an appendix. Parties can find a complete discussion of all issues raised in this review and the corresponding recommendations in this public memorandum which is on file in the Central Records Unit, room B-099 of the main Department building (B-099). In addition, a complete version of the Decision Memo can be accessed directly on the Web at http://ia.ita.doc.gov. The paper copy and electronic version of the Decision Memo are identical in content.

Changes Since the Preliminary Results

Based on our analysis of comments received, we have made certain changes in the margin calculations for Hunan and Founder. Any alleged programming or clerical errors are discussed in the relevant sections of the Decision Memo, accessible in room B-099 and on the Web at http://ia.ita.doc.gov.

Final Results of Review

We determine that the following weighted-average margins exist for the period February 1, 1998 through January 31, 1999:

Manufacturer/exporter | Margin (percent)
Hunan Provincial Native Produce & Animal By-Products Import & Export Corp. | 0.00
Hebei Founder Import & Export Company | 30.02

Cash Deposit Requirements

The following deposit requirements will be effective upon publication of this notice of final results of administrative review for all shipments of natural bristle paint brushes and brush heads from the PRC entered, or withdrawn from warehouse, for consumption on or after the date of publication, as provided by section 751(a)(2)(C) of the Act: (1) The cash deposit rates for the reviewed companies will be the rates shown above except that, for firms whose weighted-average margins are less than 0.5 percent and therefore de minimis, the Department shall require no deposit of estimated antidumping duties; (2) for previously-reviewed PRC and non-PRC exporters with separate rates, the cash deposit rate will be the company-specific rate established for the most recent period; (3) for all other PRC exporters, the cash deposit rate will be the PRC-wide rate, 351.92 percent; and (4) for all other non-PRC exporters of the subject merchandise, the cash deposit rate will be the rate applicable to the PRC supplier of that exporter.

These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

We are issuing and publishing this determination and notice in accordance with sections 751 and 777(i) of the Act.

Dated: July 13, 2000.
Troy H. Cribb,
Acting Assistant Secretary for Import Administration.

Appendix—List of Issues

1. Factor Valuation and Usage Rates

A. Surrogate Values of Material Inputs

B. Material Input Weights

C. Wooden Core

D. Inflation of Surrogate Values

2. Non Bona Fide Sale

3. Scope

4. Clerical Errors

[FR Doc. 00-18810 Filed 7-24-00; 8:45 am]

BILLING CODE 3510-DS-P